DEPARTMENT OF TRANSPORTATION

Federal Railroad Administration

[Docket No. FRA 2015-0007-N-29]

Proposed Agency Information Collection Activities; Comment Request

AGENCY: Federal Railroad Administration (FRA), Department of Transportation (DOT).

ACTION: Notice.

SUMMARY: In compliance with the Paperwork Reduction Act of 1995, this notice announces that the Information Collection Requests (ICRs) abstracted below are being forwarded to the Office of Management and Budget (OMB) for review and comment. The ICRs describes the nature of the information collections and their expected burdens. The Federal Register notice with a 60-day comment period soliciting comments on the following collections of information was published on March 3, 2015 (80 FR 11518).

DATES: Comments must be submitted on or before December 24, 2015.

FOR FURTHER INFORMATION CONTACT: Ms. Kimberly Toone, Office of Information Technology, RAD-20, Federal Railroad Administration, 1200 New Jersey Ave. SE., Mail Stop 35, Washington, DC 20590 (telephone: (202) 493-6132). (These telephone numbers are not toll-free.)

SUPPLEMENTARY INFORMATION: The Paperwork Reduction Act of 1995 (PRA), Public Law 104-13, sec. 2, 109 Stat. 163 (1995) (codified as revised at 44 U.S.C. 3501-3520), and its implementing regulations, 5 CFR part 1320, require Federal agencies to issue two notices seeking public comment on information collection activities before OMB may approve paperwork packages. 44 U.S.C. 3506, 3507; 5 CFR 1320.5, 1320.8(d)(1), 1320.12. On September 21, 2015, FRA published a 60-day notice in the Federal Register soliciting comment on ICR that the agency was seeking OMB approval. See 80 FR 57044. FRA received no comments after issuing this notice. Accordingly, these information collection activities have been re-evaluated and certified under 5 CFR 1320.5(a) and are being forwarded to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30 day notice is published. 44 U.S.C. 3507 (b)-(c); 5 CFR 1320.12(d); see also 60 FR 44978, 44983, Aug. 29, 1995. OMB believes that the 30 day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

Below is a brief summary of the information collection activities that FRA will submit for clearance by OMB as required under the PRA:

Title: Grant Awards and Cooperative Agreements.

Abstract: FRA solicits grant applications for viable projects including, but not limited to, preconstruction planning activities, safety improvements, congestion relief, improvement of grade crossings, rail line relocation, as well as projects that encourage development, expansion, and upgrades to passenger and freight rail infrastructure and services. Funded projects are those that meet FRA and government wide evaluation standards and align with the President's key strategic transportation goals to create safe and efficient transportation choices, build a foundation for economic competitiveness, promote energy efficiency and environmental quality, and support interconnected livable communities.

FRA administers award agreements for both construction and non-construction projects that will result in service benefits or other tangible improvements in rail corridors. These projects include completion of preliminary engineering, environmental research and development, final design, and construction.

To ensure accountability of Federal award recipients through performance and results, including expenditures in support of agreed-upon activities and allowable costs outlined in a FRA Notice of Grant Award (NGA), FRA requires systematic and uniform collection and submission of information, as approved by the OMB. Included in this information collection are reports and documentation mandated by OMB for completion, as well as additional resources to compile evidence relevant to addressing FRA's important policy challenges, promoting cost-effectiveness in FRA programs, and providing effective oversight of programmatic and financial performance. This justification draws on innovative FRA program designs to use sophisticated practices in delivering Federal financial assistance and encourage continuous improvements in service delivery.

FRA issues and manages awards in compliance with Title 2 of the Code of Federal Regulations (CFR): Grants and Agreements. This justification includes one document package for collection over the entire lifecycle of the award process, in adherence to the Uniform Administrative Requirements, Cost Principles, and Audit Requirements for Federal Awards (78 FR 78589, Dec. 26, 2013; 79 FR 75871, Dec. 19, 2014). All non-research awards are subject to the application, reporting, closeout, and other processes described in this justification.

Additionally, the collection detailed in this justification represents a combination of previous FRA collection requests, including: OMB Control Number 2130-0578, OMB Control Number 2130-0580, OMB Control Number 2130-0584, and OMB Control Number 0587. Combining these collections under a new collection enables FRA to consolidate documentation under one collection, which allows for efficiency and provides a uniform period until expiration of this justification request.

Form Number(s): FRA forms 30, 31, 32, 33, 34, 35, and 229. SF forms 270, 424, 424A, 424B, 424C, 424D, 425, and LLL.

Affected Public: State and local governments, government sponsored authorities and corporations, and railroads.

Total Estimated Annual Burden: 39,521 hours.

Pursuant to 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Rebecca Pennington,
Chief Financial Officer.

[FR Doc. 2015-29892 Filed 11-23-15; 8:45 am]

BILLING CODE 4910-06-P